FEDERAL ELECTION COMMISSION

Sunshine Act Meetings

FEDERAL REGISTER CITATION NOTICE OF PREVIOUS ANNOUNCEMENT: 89 FR 41435.

PREVIOUSLY ANNOUNCED TIME AND DATE OF THE MEETING: Thursday, May 16, 2024 at 10:00 a.m.

Hybrid Meeting: 1050 First Street NE, Washington, DC (12th Floor) and Virtual.

CHANGES IN THE MEETING: The following matters were also discussed:

Eligibility Report—Mike Pence for President

Mike Pence and Mike Pence for President—Date of Ineligibility (LRA 1194)

CONTACT PERSON FOR MORE INFORMATION: Judith Ingram, Press Officer, Telephone: (202) 694-1220.

(Authority: Government in the Sunshine Act, 5 U.S.C. 552b)

Vicktoria J. Allen,
Deputy Secretary of the Commission.

[FR Doc. 2024-11190 Filed 5-17-24; 11:15 am]

BILLING CODE 6715-01-P